DEPARTMENT OF COMMERCE

National Oceanic and Atmospheric Administration

Evaluation of National Estuarine Research Reserve; Public Meeting; Request for Comments

AGENCY: Office for Coastal Management, National Ocean Service, National Oceanic and Atmospheric Administration, Department of Commerce.

ACTION: Notice of public meeting and opportunity to comment.

SUMMARY: The National Oceanic and Atmospheric Administration (NOAA), Office for Coastal Management, will hold a public meeting to solicit comments on the performance evaluation of the Tijuana River National Estuarine Research Reserve.

DATES: NOAA will consider all written comments received by Friday, August 5, 2022. A virtual public meeting will be held on Wednesday, July 27, 2022, at 1:30 p.m. Pacific Time (PT).

ADDRESSES: Comments may be submitted by one of the following methods:

Email: Michael Migliori, Evaluator, NOAA Office for Coastal Management, at Michael.Migliori@noaa.gov.

Public Meeting: Provide oral comments during the virtual public meeting on Wednesday, July 27, 2022, at 1:30 p.m. PT by registering as a speaker at https://forms.gle/jWKHzoaVU9rY9u3FA. Please register by Tuesday, July 26, 2022, at 5 p.m. PT. Upon registration, a confirmation email will be sent. The lineup of speakers will be based on the date and time of registration. Two hours prior to the start of the meeting on July 27, 2022, an email will be sent out with a link to the public meeting and information about participating.

Written comments received are considered part of the public record. The entirety of the comment, including the email address, attachments, and other supporting materials, will become part of the public record. Sensitive personal information, such as account numbers, Social Security numbers, or names of individuals, should not be included with the comment. Comments that are not responsive or contain profanity, vulgarity, threats, or other inappropriate language will not be considered.

FOR FURTHER INFORMATION CONTACT: Michael Migliori, Evaluator, NOAA Office for Coastal Management, by email at Michael.Migliori@noaa.gov or by phone at (443) 332-8936. Copies of the previous evaluation findings, reserve management plan, and reserve site profile may be viewed and downloaded on the internet at http://coast.noaa.gov/czm/evaluations/. A copy of the evaluation notification letter and most recent progress report may be obtained upon request by contacting Michael Migliori.

SUPPLEMENTARY INFORMATION: Section 312 of the Coastal Zone Management Act (CZMA) requires NOAA to conduct periodic evaluations of federally approved national estuarine research reserves. The process includes one or more public meetings, consideration of written public comments, and consultations with interested Federal, State, and local agencies and members of the public. During the evaluation, NOAA will consider the extent to which the State of California has met the national objectives, adhered to the reserve's management plan approved by the Secretary of Commerce, and adhered to the terms of financial assistance under the CZMA. When the evaluation is completed, NOAA's Office for Coastal Management will place a notice in the Federal Register announcing the availability of the Final Evaluation Findings.

Keelin Kuipers,
Deputy Director, Office for Coastal Management, National Ocean Service, National Oceanic and Atmospheric Administration.

[FR Doc. 2022-13011 Filed 6-15-22; 8:45 am]

BILLING CODE 3510-JE-P